DEPARTMENT OF TRANSPORTATION

Federal Aviation Administration

14 CFR Part 39

[Docket No. FAA-2007-0379; Directorate Identifier 2007-NM-331-AD; Amendment 39-15318; AD 2007-26-16]

RIN 2120-AA64

Airworthiness Directives; Cessna Model 680 Airplanes

AGENCY: Federal Aviation Administration (FAA), DOT.

ACTION: Final rule; request for comments.

SUMMARY: We are adopting a new airworthiness directive (AD) for certain Cessna Model 680 airplanes. This AD requires inspecting the routing of the aft fairing wire bundle assembly for adequate separation between the wiring and the hydraulic line; inspecting for chafing or damage of the wire bundle assembly and for damage to the hydraulic line, and doing corrective actions if necessary. This AD results from an incident report which indicated that a hydraulic leak and wire chafing, including signs of heat damage, were found within the lower tail cone fairing area. Similar wire chafing has also been found on other airplanes. We are issuing this AD to detect and correct wire chafing, and inadequate separation of the wiring and hydraulic line, which could lead to electrical arcing and a hydraulic leak and could result in a potential source of ignition and consequent fire.

DATES: This AD is effective January 18, 2008.

The Director of the Federal Register approved the incorporation by reference of certain publications listed in this AD as of February 7, 2008.

We must receive comments on this AD by March 3, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Cessna Aircraft Co., P.O. Box 7706, Wichita, Kansas 67277.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (telephone 800-647-5527) is in the ADDRESSES section. Comments will be available in the AD docket shortly after receipt.

FOR FURTHER INFORMATION CONTACT: Jarrett Larrow, Aerospace Engineer, Electrical Systems and Avionics, ACE-119W, FAA, Wichita Aircraft Certification Office, 1801 Airport Road, Room 100, Mid-Continent Airport, Wichita, Kansas 67209; telephone (316) 946-4128; fax (316) 946-4107.

SUPPLEMENTARY INFORMATION:

Discussion

We received an incident report which indicated that a hydraulic leak and wire chafing, including signs of heat damage, were found within the lower tail cone fairing area on a Cessna Model 680 airplane. The incident occurred while the airplane was on the ground. Wire chafing has also been found on other airplanes. Chafing of the wiring, and inadequate separation of the wiring and hydraulic line, could lead to electrical arcing and a hydraulic leak and could result in a potential source of ignition and consequent fire.

Relevant Service Information

We reviewed Cessna Alert Service Letter ASL680-24-02, dated October 1, 2007. The service letter describes procedures for inspecting the routing of the aft fairing wire bundle assembly for adequate separation between the wiring and the hydraulic line; inspecting for chafing or damage of the wire bundle assembly and for damage to the hydraulic line; and corrective actions if necessary. The corrective actions include repairing the wiring if any damage to the wire bundle is found, replacing the hydraulic line if any damage is found, and re-routing the wire bundle so there is a minimum of two inches from the hydraulic line. The service letter refers to the Model 680 wiring diagram and maintenance manuals, which contain the procedures for doing the corrective actions.

FAA's Determination and Requirements of This AD

We are issuing this AD because we evaluated all the relevant information and determined the unsafe condition described previously is likely to exist or develop in other products of the same type design. This AD requires accomplishing the actions specified in the service information described previously, except as discussed under “Differences Between the AD and the Service Information.”

Differences Between the AD and the Service Information

The service information refers only to an “inspection” for routing and chafing or damage of the wire bundles and hydraulic line. We have determined that the procedures in the service information should be described as a “general visual inspection.” Note 1 has been included in this AD to define this type of inspection.

The Accomplishment Instructions of the service information describe procedures for completing a maintenance transaction report and submitting a copy to the manufacturer. This AD would not require that action.

Interim Action

We consider this AD interim action. If final action is later identified, we might consider further rulemaking then.

FAA's Determination of the Effective Date

An unsafe condition exists that requires the immediate adoption of this AD; therefore, providing notice and opportunity for public comment before the AD is issued is impracticable, and good cause exists to make this AD effective in less than 30 days.

Comments Invited

This AD is a final rule that involves requirements affecting flight safety, and we did not provide you with notice and an opportunity to provide your comments before it becomes effective. However, we invite you to send any written data, views, or arguments about this AD. Send your comments to an address listed under the ADDRESSES section. Include “Docket No. FAA-2007-0379; Directorate Identifier 2007-NM-331-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979), and

(3) Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2007-26-16 Cessna Aircraft Company: Amendment 39-15318. Docket No. FAA-2007-0379; Directorate Identifier 2007-NM-331-AD.

Effective Date

(a) This airworthiness directive (AD) is effective January 18, 2008.

Affected ADs

(b) None.

Applicability

(c) This AD applies to Cessna Model 680 airplanes, certificated in any category, serial numbers -0001 through -0152 inclusive, -0157, and -0158.

Unsafe Condition

(d) This AD results from an incident report which indicated that a hydraulic leak and wire chafing, including signs of heat damage, were found within the lower tail cone fairing area. Similar wire chafing has also been found on other airplanes. We are issuing this AD to detect and correct wire chafing, and inadequate separation of the wiring and hydraulic line, which could lead to electrical arcing and a hydraulic leak and could result in a potential source of ignition and consequent fire.

Compliance

(e) Comply with this AD within the compliance times specified, unless already done.

Inspections/Corrective Actions

(f) Within 10 days after the effective date of this AD: Do a general visual inspection of the routing of the aft fairing wire bundle assembly for adequate separation between the wiring and the hydraulic line, and do a general visual inspection for chafing or damage of the wire bundle assembly and for damage to the hydraulic line; by doing all of the actions, including all applicable corrective actions, specified in the Accomplishment Instructions of Cessna Alert Service Letter ASL680-24-02, dated October 1, 2007; except as provided by paragraph (g) of this AD. Do all applicable corrective actions before further flight.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Exception to Alert Service Letter

(g) Although the Accomplishment Instructions of Cessna Alert Service Letter ASL680-24-02, dated October 1, 2007, specify to submit certain information to the manufacturer, this AD does not include that requirement.

Alternative Methods of Compliance (AMOCs)

(h)(1) The Manager, Electrical Systems and Avionics, ACE-119W, FAA, ATTN: Jarrett Larrow, Aerospace Engineer, Electrical Systems and Avionics, ACE-119W, FAA, Wichita Aircraft Certification Office, 1801 Airport Road, room 100, Mid-Continent Airport, Wichita, Kansas 67209; telephone (316) 946-4128; fax (316) 946-4107; has the authority to approve AMOCs for this AD, if requested using the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Material Incorporated by Reference

(i) You must use Cessna Alert Service Letter ASL680-24-02, dated October 1, 2007, to do the actions required by this AD, unless the AD specifies otherwise.

(1) The Director of the Federal Register approved the incorporation by reference of this service information under 5 U.S.C. 552(a) and 1 CFR part 51.

(2) For service information identified in this AD, contact Cessna Aircraft Co., P.O. Box 7706, Wichita, Kansas 67277.

(3) You may review copies of the service information incorporated by reference at the FAA, Transport Airplane Directorate, 1601 Lind Avenue SW., Renton, Washington; or at the National Archives and Records Administration (NARA). For information on the availability of this material at NARA, call 202-741-6030, or go to: http://www.archives.gov/federal_register/code_of_federal_regulations/ibr_locations.html.

Issued in Renton, Washington, on December 20, 2007.
Ali Bahrami,
Manager, Transport Airplane Directorate, Aircraft Certification Service.

[FR Doc. 07-6265 Filed 1-2-08; 8:45 am]

BILLING CODE 4910-13-P